MERIT SYSTEMS PROTECTION BOARD

5 CFR Parts 1201 and 1209

Practices and Procedures

AGENCY: Merit Systems Protection Board.

ACTION: Final rule.

SUMMARY: The Merit Systems Protection Board (MSPB or the Board) is adopting as final an interim rule that conformed the Board's regulations to legislative changes that amended whistleblower protections for Federal employees and the penalties available in cases where the MSPB determines that a Federal employee or a State or local officer or employee violated restrictions on partisan political activity.

DATES: Effective: September 16, 2013.

FOR FURTHER INFORMATION CONTACT: William D. Spencer, Clerk of the Board, Merit Systems Protection Board, 1615 M Street NW., Washington, DC 20419; phone: (202) 653-7200; fax: (202) 653-7130; or email: mspb@mspb.gov.

SUPPLEMENTARY INFORMATION: On July 2, 2013, the Board published an interim final rule amending 5 CFR parts 1201 and 1209. 78 FR 39543. The interim final rule was necessary to conform the MSPB's regulations to recent amendments to Federal law contained in the Hatch Act Modernization Act of 2012, Public Law 112-230 (the Act) and the Whistleblower Protection Enhancement Act of 2012, Public Law 112-199 (WPEA). A detailed discussion of the amendments to the Board's regulations required by the Act and the WPEA is set forth in the interim rule.

The Board received no comments in response to the interim rule. Therefore, the Board has determined to adopt the interim rule as final without change.

List of Subjects in 5 CFR Parts 1201 and 1209

Administrative practice and procedure.

William D. Spencer,
Clerk of the Board.

Interim Rule Adopted as Final Without Change

Accordingly, the interim rule amending 5 CFR parts 1201 and 1209, which was published at 78 FR 39543, on July 2, 2013, is adopted as a final rule without change.

[FR Doc. 2013-22439 Filed 9-13-13; 8:45 am]

BILLING CODE 7400-01-P